Memorandum of November 20, 2025

Delegation of Authority Under Section 208(d)(6) of the Compact of Free Association Amendments Act of 2024

Memorandum for the Secretary of State

By the authority vested in me as President by the Constitution and the laws of the United States of America, including section 301 of title 3, United States Code, hereby delegate to the Secretary of State the authority vested in the president to submit to the Congress the report required under section 208(d)(6) Of the Compact of Free Association Amendments Act of 2024.

You are authorized and directed to publish this memorandum in the Federal Register.

THE WHITE HOUSE,

Washington, November 20, 2025

[FR Doc. 2025-23568

Filed 12-18-25; 11:15 am]

Billing code 4710-10-P